FEDERAL FINANCIAL INSTITUTIONS EXAMINATION COUNCIL

[Docket No. AS13-24]

Appraisal Subcommittee; Notice of Meeting

AGENCY: Appraisal Subcommittee of the Federal Financial Institutions Examination Council.

ACTION: Notice of meeting.

Description: In accordance with Section 1104 (b) of Title XI of the Financial Institutions Reform, Recovery, and Enforcement Act of 1989, as amended, notice is hereby given that the Appraisal Subcommittee (ASC) will meet in closed session:

Location: Federal Reserve Board—International Square location, 1850 K Street NW., 4th Floor, Washington, DC 20006.

Date: December 11, 2013.

Time: 10:00 a.m.

Status: Closed

Matters To Be Considered:

October 9, 2013 minutes—Closed Session

Preliminary discussion of State Compliance Reviews

Personnel

Dated: November 25, 2013.
James R. Park,
Executive Director.

[FR Doc. 2013-28712 Filed 11-27-13; 8:45 am]

BILLING CODE 6700-01-P